DEPARTMENT OF THE INTERIOR

National Park Service

National Register of Historic Places; Notification of Pending Nominations

Nominations for the following properties being considered for listing in the National Register were received by the National Park Service before October 28, 2000. Pursuant to § 60.13 of 36 CFR part 60 written comments concerning the significance of these properties under the National Register criteria for evaluation may be forwarded to the National Register, National Park Service, 1849 C St. NW, NC400, Washington, DC 20240. Written comments should be submitted by November 21, 2000.

Paul R. Lusignan,
Acting Keeper of the National Register.

ARIZONA

Yavapai County

Joslin and Whipple Historic District, S. Mt. Vernon, Virginia, Washington, and Arizona Sts., Prescott, 00001387

Whipple Heights Historic District, E. Gurley, N. Virginia and Washington, E. Moeller Sts., Prescott, 00001388

ARKANSAS

Cross County

Wittsburg Store and Gas Station, (Arkansas Highway History and Architecture MPS) Cty Rd 739, Wittsburg, 00001386

GEORGIA

Gwinnett County

Adair, Isaac, House, 1235 Chandler Rd., Lawrenceville, 00001390

Spalding County

Spalding County Courthouse—Spalding County Jail, 232 E. Broad St., Griffin, 00001389

MARYLAND

Baltimore Independent city

Parker Metal Decoration Company Plant, 333 W. Ostend St., Baltimore, 00001391

Montgomery County

Wiley—Ringland House, 4722 Dorset Ave., Chevy Chase, 00001392

MASSACHUSETTS

Hampden County

Quadrangle—Mattoon Historic District (Boundary Increase), Byers, Pearl, Spring and Salem Sts., Springfield, 00001393

Worcester County

Boulevard Diner, (Diners of Massachusetts MPS) 155 Shrewsbury St., Worcester, 00001394

Hubbardston Town Common Historic District, Main and Brigham Sts., Hubbardston, 00001396

Ted's Diner (Diners of Massachusetts MPS), 67 Main St., Milford, 00001395

MISSISSIPPI

Harrison County

JOSEPHINE (Shipwreck), Address Restricted, Biloxi, 00001402

Madison County

Sedgewood Plantation, 2607 Virlilia Rd., Canton, 00001400

Winston County

Foster—Fair House, 507 S. Columbus Ave., Louisville, 00001401

MISSOURI

Monroe County

St. Jude's Episcopal Church, 301 N. Main St., Monroe City, 00001397

St. Louis Independent city

Louderman Building, 317 N. Eleventh St., St. Louis (Independent City), 00001399

Phipps—Wallace Store Building, 312-316 N. Eighth St., St. Louis (Independent City), 00001398

NEBRASKA

Sioux County

Wind Springs Ranch Historic and Archeological District, Wind Springs Creek Valley, Scottsbluff, 00001403

NEW JERSEY

Cumberland County

Landis Theatre—Mori Brothers Building, 830-834 Landis Ave., Vineland, 00001405

Gloucester County

Rulon, John C., House, 428 Kings Highway, Swedesboro, 00001404

Monmouth County

Palace Amusements, 201-207 Lake Ave., Asbury, 00001406

NEW YORK

Cattaraugus County

Leon United Methodist Church, Jct. of NY 6 and NY 62, Leon, 00001413

Cortland County

Tarbell Building, 2 Cortland St., Marathon, 00001408

Dutchess County

Barrett, Oliver, House, Reagan Rd., Millerton, 00001416

Dakin—Coleman Farm, Coleman Station Rd., Millerton, 00001421

Wheeler, Thomas N., Farm, Indian Lake Rd., Millerton, 00001417

Erie County

Wile, M., and Company Factory Building, 77 Goodell St., Buffalo, 00001419

Greene County

Old Episcopal Manse, NY 23, Main St., Prattsville, 00001415

Montgomery County

Windfall Dutch Barn, Clinton Rd., jct. with Ripple Rd., Salt Springville, 00001411

Onondaga County

Fabius Village Historic District, Roughly bounded by N. West St., Mill St., Keeney St. and Fabius Town Line, Fabius, 00001409

Orange County

Bloomer—Dailey House and Balmville Tree, 83 Balmville Rd., Balmville, 00001420

Kellogg, The, House (Cornwall MPS), Old Pleasant Hill Rd., Cornwall, 00001414

Oswego County

Oswego County Courthouse, East Bridge St., Oswego, 00001418

St. Lawrence County

Lisbon Railroad Depot, 6936 Cty Rd. 10, Lisbon, 00001422

Sullivan County

Ohave Shalom Synagogue, Mauric Rose St., Woodridge, 00001412

South Fallsburg Hebrew Association Synagogue, North St., South Fallsburg, 00001410

Tompkins County

St. John's Episcopal, (Historic Churches of the Episcopal Diocese of Central New York MPS) 1504 Seventy Six Rd., Speedsville, 00001407

Ulster County

Gardiner School, 2340 NY44/55, Gardiner, 00001423

Van Keuren, Benjamin House Ruin, Off of Bruyn Turnpike, Shawangunk, 00001424

NORTH CAROLINA

Harnett County

Averasboro Battlefield Historic District, Roughly bounded by Cape Fear R., NC 1780, the Black R., NC 1801, Erwin, 00001425

Randolph County

Liberty Historic District, Roughly along W of Norfolk & Southern RR bet. Butler Ave. and W. Patterson Ave., inc. the 100 blk. of W. Swannanoa St., Liberty, 00001426

OREGON

Multnomah County

Villa St. Rose, 597 N. Dekum St., Portland, 00001427

PENNSYLVANIA

Jefferson County

United States Post Office—Punxsutawney, 201 N. Findley St., Punxsutawney, 00001428

TENNESSEE

Maury County

Cleburne Jersey Farm (Historic Family Farms in Middle Tennessee MPS), 2319 Sugar Ridge Rd., Spring Hill, 00001430

Shelby County

Mid-South Coliseum, 996 Early Maxwell Blvd., Memphis, 00001429

VIRGINIA

Albemarle County

Mount Walla, 604 Poplar Springs Rd., Scottsville, 00001442

Clarke County

Millwood Colored School, 1610 Millwood Rd., Boyce, 00001431

Goochland County

Byrd Presbyterian Church, 2229 Dogtown Rd., Goochland, 00001438

Greene County

Beadles House, 515 Greene Acres Rd., Stanardsville, 00001433

Hanover County

Church Quarter, 12432 Old Ridge Rd., Doswell, 00001436

Hopewell Independent city

Beacon Theatre, 401 N. Main St., Hopewell, 00001434

Lynchburg Independent city

Centerview, 1900 Memorial Ave., Lynchburg, 00001435

Norfolk Independent city

Berkley North Historic District, Roughly bounded by Bellamy Ave., Pescara Creek, Berkley Ave., and I-464, Norfolk, 00001440

Page County

Strickley—Louderback House, 1001 Old Farm Rd., Shenandoah, 00001441

Pulaski County

Calfee Athletic Field, Washington and Pierce Aves., SE, Pulaski, 00001432

Radford Independent city

Glencoa, First St., Radford, 00001439

WASHINGTON

King County

Cedar River Watershed Cultural Landscape, 1990 Cedar Falls Rd. SE, North Bend, 00001443

Shawnee House, 11608 SW Shawnee Rd., Vashon, 00001449

Pierce County

Perkins Building, 1101 A St., Tacoma, 00001444

Spokane County

Rosebush House, 3318 N. Marguerite Rd., Spokane, 00001446

Salvation Army Building, 245 W. Main Ave., Spokane, 00001445

Walla Walla County

Buemeister, Max, Building, 27 W. Main, Walla Walla, 00001448

Whatcom County

United States Border Station at Sumas, Washington, 131 Harrison St., Sumas, 00001447

WISCONSIN

Dodge County

Weyenberg Shoe Factory, 913 N. Spring St., Beaver Dam, 00001452

Oconto County

Mountain School, 14330 Hwy W West, Mountain, 00001453

A request for REMOVAL has been made for the following resource:

WASHINGTON

Whatcom County

1201 Roeder Ave. Bellingham, 81000594

[FR Doc. 00-28426 Filed 11-3-00; 8:45 am]

BILLING CODE 4310-70-P